DEPARTMENT OF TRANSPORTATION

Coast Guard

33 CFR Part 165

[COTP San Juan 02-038]

RIN 2115-AA97

Safety Zones; Ponce Bay, Tallaboa Bay, and Guayanilla Bay, Puerto Rico and Limetree Bay, St. Croix, U.S. Virgin Islands

AGENCY: Coast Guard, DOT.

ACTION: Final rule.

SUMMARY: The Coast Guard is establishing moving safety zones around all Liquefied Hazardous Gas (LHG) vessels with product aboard in the waters of the Caribbean Sea and the Bays of Ponce, Tallaboa, Guayanilla, Puerto Rico and Limetree Bay, U.S. Virgin Islands. This action is necessary due to the highly volatile nature of this cargo. This rule is necessary to enhance public and maritime safety by requiring vessel traffic to maintain a safe distance from these LHG vessels while they are underway.

DATES: This rule is effective October 28, 2002.

ADDRESSES: Comments and material received from the public, as well as documents indicated in this preamble as being available in the docket are part of docket [COTP San Juan 02-038] and are available for inspection or copying at Coast Guard Marine Safety Office San Juan, Rodriguez and Del Valle Building, San Martin Street, Carr. #2, Km. 4.9, Guaynabo, Puerto Rico, 00968, between the hours of 7 a.m. and 3:30 p.m., Monday through Friday, excluding Federal Holidays.

FOR FURTHER INFORMATION CONTACT: Lieutenant Chip Lopez, Coast Guard Marine Safety Office San Juan, Puerto Rico, at (787) 706-2444.

SUPPLEMENTARY INFORMATION:

Regulatory Information

On June 4, 2002, we published a notice of proposed rulemaking (NPRM) entitled “Safety Zones; Ponce Bay, Tallaboa Bay, Guayanilla Bay, Puerto Rico, and Limetree Bay, St. Croix U.S.V.I.” in the Federal Register (67 FR 38451). We received no letters commenting on the proposed rule. No public hearing was requested and none was held.

Background and Purpose

These rules are needed to provide for the safety of life on navigable waters from the hazards associated with Liquified Hazardous Gas (LHG) carriers. The safety zones are needed because of the significant risks LHG ships present to public safety due to their size, draft, and volatile cargoes. We anticipate periodic arrivals of vessels carrying LHG in Ponce, Tallaboa and Guayanilla Bays, Puerto Rico and Limetree Bay, St. Croix, U.S. Virgin Islands. This rule will keep vessel traffic at least 100 yards away from LHG vessels thereby decreasing the risk of a collision, allision, or grounding.

This rule establishes a 100-yard safety zone in the waters of the Caribbean Sea surrounding all LHG vessels with product aboard while transiting on approach to or departing from the following Ports, north of the latitudes indicated. Port of Ponce, Puerto Rico north of Latitude 17°56.00' N. Ports of Tallaboa and Guayanilla, Puerto Rico north of Latitude 17°57.00' N. Port of Limetree Bay, St. Croix, U.S. Virgin Islands north of 17°39.00' N. All coordinates are NAD 83. These safety zones remain in affect until the LHG vessel is safely moored. The Marine Safety Office San Juan will notify the maritime community of periods during which these safety zones will be in effect by providing advance notice of scheduled arrivals and departures on LHG carriers via a broadcast notice to mariners on VHF Marine Band Radio, Channel 16 (156.8 MHz).

Discussion of Comments and Changes

No comments were received on the proposed rule.

Regulatory Evaluation

This rule is not a “significant regulatory action” under section 3(f) of Executive Order 12866, Regulatory Planning and Review, and does not require an assessment of potential costs and benefits under section 6(a)(3) of that Order. The Office of Management and Budget has not reviewed it under that Order. It is not significant under the regulatory policies and procedures of the Department of Transportation (DOT) (44 FR 11040, February 26, l979). We expect the economic impact of this rule to be so minimal that a full Regulatory Evaluation under paragraph 10(e) of the regulatory policies and procedures of DOT is unnecessary due to the relatively infrequent arrival of LHG carriers, the limited size of the safety zone, and the relatively sparse nature of other commercial traffic in Ponce, Tallaboa, Guayanilla, and Limetree Bays.

Small Entities

Under the Regulatory Flexibility Act (5 U.S.C. 601-612), we considered whether this rule would have a significant economic impact on a substantial number of small entities. The term “Small entities” comprises small businesses, not-for-profit organizations that are independently owned and operated and are not dominant in their fields, and governmental jurisdictions with populations of less than 50,000.

This rule may affect the following entities, some of which may be small entities: the owners and operators of vessels intending to transit a portion of Ponce, Tallaboa, Guayanilla, and Limetree Bays while a LHG vessel transits and docks at a facility. The Coast Guard certifies under 5 U.S.C. 605(b) that this rule would not have a significant economic impact on a substantial number of small entities because of the relative infrequent arrivals of LHG carriers, the limited size of the safety zone, and the relatively sparse nature of other commercial traffic in Ponce, Tallaboa, Guayanilla, and Limetree Bays.

Assistance for Small Entities

Under section 213(a) of the Small Business Regulatory Enforcement Fairness Act of 1996 (Public Law 104-121), we want to assist small entities in understanding this proposed rule so that they can better evaluate its effects on them and participate in the rulemaking. If the rule would affect your small business, organization, or governmental jurisdiction and you have questions concerning its provisions or options for compliance, please contact Lieutenant Chip Lopez at (787) 706-2444 for assistance in understanding this rulemaking. We also have a point of contact for commenting on actions by employees of the Coast Guard. Small businesses may send comments on the actions of Federal employees who enforce, or otherwise determine compliance with Federal regulations to the Small Business and Agriculture Regulatory Enforcement Ombudsman and the Regional Small Business Regulatory Fairness Boards. The Ombudsman evaluates these actions annually and rates each agency's responsiveness to small businesses. If you wish to comment on actions by employees of the Coast Guard, call 1-888-REG-FAIR (1-888-734-3247).

Collection of Information

This rule calls for no new collection of information under the Paperwork Reduction Act of 1995 (44 U.S.C. 3501-3520).

Federalism

We have analyzed this rule under Executive Order 13132, Federalism, and have determined that this rule does not have implications for federalism under that order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those unfunded mandate costs. This rule would not impose an unfunded mandate.

Taking of Private Property

This rule would not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or safety that may disproportionately affect children.

Environment

The Coast Guard has considered the environmental impact of this rule and has determined that, under figure 2-1, paragraph (34)(g), of Commandant Instruction M16475.lD, that this rule is categorically excluded from further environmental documentation.

List of Subjects in 33 CFR Part 165

Harbors, Marine Safety, Navigation (water), Reporting and recordkeeping requirements, Security measures, Waterways.

For the reasons discussed in the Preamble, the Coast Guard amends 33 CFR part 165 as follows:

PART 165—REGULATED NAVIGATION AREAS AND LIMITED ACCESS AREAS

1. The authority citation for part 165 continues to read as follows:

Authority: 33 U.S.C. 1231; 50 U.S.C. 191; 33 CFR 1.05-1(g), 6.04-1, 6.04-6, and 160.5; 49 CFR 1.46.

2. Add § 165.757 to read as follows:

§ 165.757 Safety Zones; Ports of Ponce, Tallaboa, and Guayanilla, Puerto Rico and Limetree Bay, St. Croix, U.S.V.I.

(a) Location. The following areas are established as a safety zones during the specified conditions:

(1) Port of Ponce, Puerto Rico. A 100-yard radius surrounding all Liquefied Hazardous Gas (LHG) vessels with product aboard while transiting north of Latitude 17°57.0′ N in the waters of the Caribbean Sea on approach to or departing from the Port of Ponce, Puerto Rico (NAD 83). The safety zone remains in effect until the LHG vessel is docked.

(2) Port of Tallaboa, Puerto Rico. A 100-yard radius surrounding all Liquefied Hazardous Gas (LHG) vessels with product aboard while transiting north of Latitude 17°56.0′ N in the waters of the Caribbean Sea on approach to or departing from the Port of Tallaboa, Puerto Rico (NAD 83). The safety zone remains in effect until the LHG vessel is docked.

(3) Port of Guayanilla, Puerto Rico. A 100-yard radius surrounding all Liquefied Hazardous Gas (LHG) vessels around with product aboard while transiting north of Latitude 17°57.0′ N in the waters of the Caribbean Sea on approach to or departing from the Port of Guayanilla, Puerto Rico (NAD 83). The safety zone remains in effect until the LHG vessel is docked.

(4) Port of Limetree Bay, St. Croix, U.S.V.I. A 100-yard radius surrounding all Liquefied Hazardous Gas (LHG) vessels with product aboard while transiting north of Latitude 17°39.0′ N in the waters of the Caribbean Sea on approach to or departing from the Port of Limetree Bay, U.S.V.I. (NAD 83). The safety zone remains in effect until the LHG vessel is docked.

(b) Regulations. In accordance with the general regulations in § 165.23 of this part, anchoring, mooring or transiting in these zones is prohibited unless authorized by the Coast Guard Captain of the Port. The Marine Safety Office San Juan will notify the maritime community of periods during which these safety zones will be in effect by providing advance notice of scheduled arrivals and departures on LHG carriers via a broadcast notice to mariners on VHF Marine Band Radio, Channel 16 (156.8 MHz).

Dated: September 16, 2002.
W.J. Uberti,
Captain, U.S. Coast Guard, Captain of the Port, San Juan.

[FR Doc. 02-24665 Filed 9-26-02; 8:45 am]

BILLING CODE 4910-15-P